DEPARTMENT OF ENERGY

Federal Energy Regulatory Commission

[Docket No. EC04-34-000, et al.]

Onondaga Cogeneration Limited Partnership, et al.; Electric Rate and Corporate Filings

January 6, 2004.

The following filings have been made with the Commission. The filings are listed in ascending order within each docket classification.

1. Onondaga Cogeneration Limited Partnership

[Docket Nos. EC04-34-000 and ER00-895-002]

Take notice that on December 24, 2003, Onondaga Cogeneration Limited Partnership (Onondaga) tendered for filing a supplement to its application filed on December 5, 2003. Onondaga states that the supplement consists of a First Amendment to Purchase and Sale Agreement by and among UtilCo Group, Inc., MEP Holdings, Inc. and MEP Investments, LLC, as Sellers and Teton Power Funding, LLC, as Purchaser.

Comment Date: January 14, 2004.

2. United States Department of Energy Western Area Power Administration

[Docket No. EF04-5031-000]

Take notice that on December 29, 2003, the Deputy Secretary of the Department of Energy, by Rate Order No. WAPA-110, did confirm and approve, to be effective on February 1, 2004, and ending December 31, 2008, the Western Area Power Administration's Rate Schedules P-SED-F7 and P-SED-FP7 for Firm Power Service and Firm Peaking Power Service for the Pick-Sloan Missouri Basin Program-Eastern Division.

The Deputy Secretary of the Department of Energy states that the rates in Rate Schedules P-SED-F7 and P-SED-FP7 will be in effect on an interim basis pending the Federal Energy Regulatory Commission's approval of these or of substitute rates on a final basis, ending December 31, 2008.

Comment Date: January 20, 2004.

3. United States Department of Energy Western Area Power Administration

[Docket No. EF04-5181-000]

Take notice that on December 29, 2003, the Deputy Secretary of the Department of Energy, by Rate Order No. WAPA-105, did confirm and approve on an interim basis, to be effective February 1, 2004, and ending December 31, 2008, the Western Area Power Administration's Rate Schedule L-F5 for the Loveland Area Projects.

The Deputy Secretary of the Department of Energy states that the rates in Rate Schedule L-F5 will be in effect on an interim basis pending the Federal Energy Regulatory Commission's approval of these or of substitute rates on a final basis.

Comment Date: January 20, 2004.

4. Logan Generating Company, L.P.

[Docket No. ER95-1007-017]

Take notice that on December 29, 2003, Logan Generating Company, L.P. submitted a compliance filing in response to the Commission's November 17, 2003, Order amending Market-based Rate Tariffs and Authorizations, in Docket Nos. EL01-118-000 and 001.

Comment Date: January 20, 2004.

5. Pittsfield Generating Company, L.P.

[Docket No. ER98-4400-007]

Take notice that on December 29, 2003, Pittsfield Generating Company, L.P. submitted a compliance filing in response to the Commission's November 17, 2003, Order amending Market-based Rate Tariffs and Authorizations, in Docket Nos. EL01-118-000 and 001.

Comment Date: January 20, 2004.

6. AES Londonderry, LLC

[Docket No. ER00-1147-002]

Take notice that on December 29, 2003, AES Londonderry, LLC (AES Londonderry) tendered for filing a triennial market power update in compliance with the Commission's order issued March 16, 2000, 90 FERC ¶ 61,252 (2000). As part of its triennial market power update, AES Londonderry submitted amendments to its market-based rate tariff in compliance with the Commission's November 17, 2003, Order amending Market-based Rate Tariffs and Authorizations, in Docket Nos. EL01-118-000 and 001. AES Londonderry states that it also submitted for approval certain ministerial changes to its existing Code of Conduct reflecting current corporate affiliations.

Comment Date: January 20, 2004.

7. Colton Power, L.P.

[Docket No. ER01-2644-005]

Take notice that on December 29, 2003, Colton Power, L.P. submitted a compliance filing in response to the Commission's November 17, 2003, Order Amending Market-based Rate Tariffs and Authorizations in Docket Nos. EL01-118-000 and 001.

Comment Date: January 20, 2004.

8. New England Power Pool ISO New England Inc.

[Docket No. ER02-2330-022]

Take notice that on December 29, 2003, ISO New England Inc. (ISO) submitted a Status Report on Development of Day-Ahead Demand Response Program in compliance with the Commission's November 17, 2003, Order on Requests for Rehearing and Compliance Filing, 105 FERC ¶ 61,211.

The ISO states that copies of the filing have been served on all parties to the above-captioned proceeding.

Comment Date: January 20, 2004.

9. Keystone Energy Group, Inc.

[Docket No. ER02-2605-002]

Take notice that on December 29, 2003, Keystone Energy Group, Inc. submitted a compliance filing in response to the Commission's November 17, 2003, Order Amending Market-based Rate Tariffs and Authorizations in Docket Nos. EL01-118-000 and 001.

Comment Date: January 20, 2004.

10. Sierra Pacific Energy, LP

[Docket No. ER04-7-001]

Take notice that on December 24, 2003, Sierra Pacific Energy, LP submitted a compliance filing in response to the Commission's November 17, 2003, Order Amending Market-based Rate Tariffs and Authorizations in Docket Nos. EL01-118-000 and 001.

Comment Date: January 14, 2004.

11. Duke Energy Corporation

[Docket No. ER04-339-000]

Take notice that on December 24, 2003, Duke Energy Corporation, on behalf of Duke Electric Transmission, (collectively, Duke) tendered for filing a new Service Agreement for Network Integration Transmission Service (NITSA), including a new Network Operating Agreement and Facility Connections Requirements , between Duke and South Carolina Electric & Gas Company. Duke seeks an effective date for the NITSA of January 1, 2004.

Comment Date: January 14, 2004.

12. San Diego Gas & Electric Company

[Docket No. ER04-340-000]

Take notice that on December 24, 2003, San Diego Gas & Electric Company (SDG&E) tendered for filing its forecast of the charges it will pay under its Reliability Must Run (RMR) contracts with the California Independent System Operator (ISO) for the year 2004, and a proposed allocation for recovering those costs in rates. SDG&E projects a total RMR revenue requirement of $106.239 million. In addition, SDG&E proposes to change from an Equal Percentage Marginal Costs allocation methodology to a 12-Month Coincident Peak methodology. SDG&E states that, under section 5.2.7 of the ISO tariff, it is the Responsible Utility (RU) for payments to operators of RMR units within its territory. Further, SDG&E states that it recovers its costs for those payments through a dedicated rate component, and requests an effective date of January 1, 2004, for the proposed rate.

SDG&E states that copies of the filing have been served on the ISO, Electricity Oversight Board, California Energy Commission and the California Public Utilities Commission.

Comment Date: January 14, 2004.

13. Vermont Electric Cooperative, Inc.

[Docket No. ER04-341-000]

Take notice that on December 24, 2003, Vermont Electric Cooperative, Inc. (VEC) tendered for filing its Open Access Transmission Tariff and certain rate schedules for jurisdictional transmission service. VEC states that the filing seeks to effect certain terms and conditions of a Purchase and Sale Agreement under which VEC has agreed to purchase from Citizens Communications Company (Citizens) certain electric transmission and distribution facilities in Vermont. VEC requests an effective date as of the closing of the transaction.

VEC states that each of the customers under the OATT and rate schedules, Citizens, the Vermont Public Service Board, and the Vermont Department of Public Service were mailed copies of the filing.

Comment Date: January 14, 2004.

14. PJM Interconnection, L.L.C.

[Docket No. ER04-342-000]

Take notice that on December 29, 2003, PJM Interconnection, L.L.C. (PJM) submitted for filing revisions to the PJM Open Access Transmission Tariff and the Amended and Restated Operating Agreement of PJM Interconnection, L.L.C. to adjust the allocation period for excess congestion revenues from a calendar year basis to a PJM planning period (June 1 to May 31) basis. PJM requests an effective date of December 31, 2003.

PJM states that copies of the filing have been served on all PJM members, and each State electric utility regulatory commission in the PJM region.

Comment Date: January 20, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-52 Filed 01-14-04; 8:45 am]

BILLING CODE 6717-01-P